DEPARTMENT OF ENERGY

Federal Energy Regulatory Commission

[Project No. 14060-000]

Owyhee Hydro, LLC; of Preliminary Permit Application Accepted for Filing and Soliciting Comments, Motions To Intervene, and Competing Applications

On January 18, 2011, Owyhee Hydro, LLC filed an application for a preliminary permit, pursuant to section 4(f) of the Federal Power Act (FPA), proposing to study the feasibility of the Owyhee Pumped Storage Project (project) to be located on Lake Owyhee, near Adrian, Malheur County, Oregon. The sole purpose of a preliminary permit, if issued, is to grant the permit holder priority to file a license application during the permit term. A preliminary permit does not authorize the permit holder to perform any land-disturbing activities or otherwise enter upon lands or waters owned by others without the owners' express permission.

The proposed project has three alternatives and would consist of the following:

Owyhee Ridge Alternative A

Utilizing the existing Lake Owyhee as the lower reservoir and constructing: (1) A 50-foot-high, 9,900-foot-long earthen or rockfill upper reservoir embankment; (2) a artificial, lined upper reservoir with a storage capacity of 8,235-acre-foot; (3) a 600-foot-long, 15.5-foot diameter concrete-lined low-pressure tunnel; (4) a 5,870-foot-long, 15.5-foot-diameter concrete-lined pressure shaft; (5) a 1,815-foot-long, 18.6-foot-diameter concrete-lined tailrace; (6) a 100-foot-long, 350-foot-wide, 120-foot-high underground powerhouse; (7) a 4.85-mile-long, 230 or 345-kilovolt (kV) transmission line interconnecting with either the existing Midpoint-Summer Lake line or the planned Boardman-Hemingway line; and (8) appurtenant facilities.

Owyhee Ridge Alternative B

Utilizing the existing Lake Owyhee as the lower reservoir and constructing: (1) A 50-foot-high, 9,900-foot-long earthen or rockfill upper reservoir embankment; (2) a artificial, lined upper reservoir with a storage capacity of 8,235-acre-foot; (3) a 1,190-foot-long, 15.5-foot-diameter concrete-lined low-pressure tunnel; (4) an 8,100-foot-long, 15.5-foot-diameter concrete-lined pressure shaft; (5) a 2,000-foot-long, 18.6-foot-diameter concrete-lined tailrace; (6) a 100-foot-long, 350-foot-wide, 120-foot-high underground powerhouse; (7) a 2.7-mile-long, 230 or 354-kV transmission line interconnecting with either the existing Midpoint-Summer Lake line or the planned Boardman-Hemingway line; and (8) appurtenant facilities.

Long Draw Alternative

Utilizing the existing Lake Owyhee as the lower reservoir and constructing: (1) A artificial, lined upper reservoir with a storage capacity of 8,235-acre-foot; (2) a 210-foot-high, 2,165-foot-long zoned earth and rockfill dam with impervious core or concrete-face earth and rockfill dam; (3) a 2,100-foot-long, 16.4-foot-diameter concrete-lined low-pressure tunnel; (4) a 8,070-foot-long, 16.4-foot-diameter concrete-lined pressure tunnel; (5) a 2,110-foot-long, 19.7-foot-diameter concrete-lined tailrace; (6) an 80-foot-high, 280-foot-wide, 120-foot-high underground powerhouse; (7) a 2.5-mile-long, 230-kV transmission line interconnecting with either the existing Midpoint-Summer Lake line or the planned Boardman-Hemingway line; and (8) appurtenant facilities.

All of the alternatives would include four reversible pump-turbines with a total installed capacity of 500 megawatts.

The estimated annual generation of the project would be 1,533 gigawatt-hours.

Applicant Contact: Mr. Matthew Shapiro, Owyhee Hydro, LLC, 1210 W. Franklin Street, Suite 2, Boise, Idaho 83702; phone: (208) 246-9925.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14060-000) in the docket number field to access the document. For assistance, contact FERC Online Support.

Dated: April 8, 2011.
Kimberly D. Bose,
Secretary.

[FR Doc. 2011-9072 Filed 4-13-11; 8:45 am]

BILLING CODE 6717-01-P